DEPARTMENT OF HEALTH AND HUMAN SERVICES

Centers for Disease Control and Prevention

[Docket Number NIOSH-240]

Request for Information: Announcement of Carcinogen and Recommended Exposure Limit (REL) Policy Assessment

AGENCY: National Institute for Occupational Safety and Health (NIOSH) of the Centers for Disease Control and Prevention (CDC), Department of Health and Human Services (HHS).

ACTION: Notice and extension of public comment period.

SUMMARY: On August 23, 2011, the Director of the National Institute for Occupational Safety and Health (NIOSH) of the Centers for Disease Control and Prevention (CDC) published a notice in the Federal Register (76 FR 52664) announcing its intent to “review its approach to classifying carcinogens and establishing recommended exposure limits (RELs) for occupational exposures to hazards associated with cancer.” As part of this effort, NIOSH requested initial input on issues, and answers to 5 questions. NIOSH has also created a new NIOSH Cancer and RELs Policy Web Topic Page [see http://www.cdc.gov/niosh/topics/cancer/policy.html] to provide additional details about this effort and progress updates.

Written comment was to be received by September 22, 2011. NIOSH has received a request to extend the comment period to permit the public more time to gather and submit information. NIOSH is extending the public comment period to Friday, December 30, 2011.

Public Comment Period: Written or electronic comments must be received on or postmarked by Friday, December 30, 2011.

ADDRESSES: Written comments, identified by docket number NIOSH-240, may be submitted by any of the following methods:

• Mail: NIOSH Docket Office, Robert A. Taft Laboratories, MS-C34, 4676 Columbia Parkway, Cincinnati, Ohio 45226.

• Facsimile: (513) 533-8285.

• E-mail: nioshdocket@cdc.gov.

All information received in response to this notice will be available for public examination and copying at the NIOSH Docket Office, 4676 Columbia Parkway, Room 111, Cincinnati, Ohio 45226. A complete electronic docket containing all comments submitted will be available on the NIOSH Web page at http://www.cdc.gov/niosh/docket, and comments will be available in writing by request. NIOSH includes all comments received without change in the docket, including any personal information provided. All electronic comments should be formatted as Microsoft Word. Please make reference to docket number NIOSH-240.

FOR FURTHER INFORMATION CONTACT: T.J. Lentz, telephone (513) 533-8260, or Faye Rice, telephone (513) 533-8335, NIOSH, MS-C32, Robert A. Taft Laboratories, 4676 Columbia Parkway, Cincinnati, Ohio 45226.

Dated: September 23, 2011.
John Howard,
Director, National Institute for Occupational Safety and Health, Centers for Disease Control and Prevention.

[FR Doc. 2011-25039 Filed 9-28-11; 8:45 am]

BILLING CODE 4163-19-P